COMMISSION ON CIVIL RIGHTS

Notice of Public Meetings of the New Mexico Advisory Committee; Update

AGENCY: Commission on Civil Rights.

ACTION: Notice; update webinar registration links.

SUMMARY: The Commission on Civil Rights published a notice in the Federal Register of Thursday, December 7, 2023, concerning various meetings of the New Mexico Advisory Committee. The document contained outdated registrations links. These are the updated webinar registration links as follows:

February 6

https://www.zoomgov.com/webinar/register/WN_DTG2mXQ_QWmzrsKFznMWlw

March 5

https://www.zoomgov.com/webinar/register/WN_zL_DChg8TrKVMakhraA9pA

March 28

https://www.zoomgov.com/webinar/register/WN_sN2fpf9PTM2osHMy2cITXg

FOR FURTHER INFORMATION CONTACT: Brooke Peery, (202) 701-1376, bpeery@usccr.gov.

In the Federal Register of Friday, December 7, 2023, in FR Doc. 2023-28559, on page 89363, third column and page 89364, first and second columns, all times remain the same 12:00 p.m.-1:30 p.m. Mountain Time.

Dated: January 22, 2024.
David Mussatt,
Supervisory Chief, Regional Programs Unit.

[FR Doc. 2024-01489 Filed 1-24-24; 8:45 am]

BILLING CODE P